DEPARTMENT OF LABOR

Mine Safety and Health Administration

Proposed Extension of Existing Information Collection; Mine Accident, Injury, Illness, Mine Employment, and Coal Production Reports [OMB Control No. 1219-0007]

AGENCY: Mine Safety and Health Administration.

ACTION: Notice of request for public comments.

SUMMARY: The Department of Labor, as part of its continuing effort to reduce paperwork and respondent burden, conducts a pre-clearance consultation program to provide the general public and Federal agencies with an opportunity to comment on proposed and continuing collections of information in accordance with the Paperwork Reduction Act of 1995 [44 U.S.C. 3506(c)(2)(A)]. This program helps to assure that requested data can be provided in the desired format, reporting burden (time and financial resources) is minimized, collection instruments are clearly understood, and the impact of collection requirements on respondents can be properly assessed. Currently, the Mine Safety and Health Administration (MSHA) is soliciting comments concerning the extension of the information collection for notification, investigation, and reporting of accidents, injuries, illnesses, and fatalities at mines; mine employment; and coal production.

DATES: All comments must be received by midnight Eastern Standard Time on March 7, 2011.

ADDRESSES: Comments must clearly be identified with the rule title and may be submitted to MSHA by any of the following methods:

(1) Electronic mail: zzMSHA-Comments@dol.gov.

(2) Facsimile: 202-693-9441.

(3) Regular Mail: MSHA, Office of Standards, Regulations, and Variances, 1100 Wilson Boulevard, Room 2350, Arlington, VA 22209-3939.

(4) Hand Delivery or Courier: MSHA, Office of Standards, Regulations, and Variances, 1100 Wilson Boulevard, Room 2350, Arlington, VA 22209-3939. Sign in at the receptionist's desk on the 21st floor.

FOR FURTHER INFORMATION CONTACT: Mario Distasio, Chief of the Economic Analysis Division, Office of Standards, Regulations, and Variances, MSHA, at distasio.mario@dol.gov (e-mail), 202-693-9445 (voicemail), 202-693-9441 (facsimile).

SUPPLEMENTARY INFORMATION:

I. Background

The reporting and recordkeeping provisions in 30 CFR part 50, Notification, Investigation, Reports and Records of Accidents, Injuries and Illnesses, Employment and Coal Production in Mines, are essential elements in MSHA's Congressional mandate to reduce work-related injuries and illnesses among the nation's miners.

Section 50.10 requires mine operators and independent contractors to immediately notify MSHA in the event of an accident. This immediate notification is critical to MSHA's timely investigation and assessment of the cause of the accident.

Section 50.11 requires that the mine operator or independent contractor investigate each accident and occupational injury and prepare a report. The operator or contractor may not use MSHA Form 7000-1 as a report, unless the mine employs fewer than 20 miners and the occurrence involves an occupational injury not related to an accident.

Section 50.20 requires mine operators and independent contractors to report each accident, injury, or illness to MSHA on Form 7000-1 within 10 working days after an accident or injury has occurred or an occupational illness has been diagnosed. The use of MSHA Form 7000-1 provides for uniform information gathering across the mining industry.

Section 50.30 requires mine operators and independent contractors working on mine property to report quarterly employment, hours worked, and coal production to MSHA on Form 7000-2.

MSHA tabulates and analyzes the information from MSHA Form 7000-1, Mine Accident, Injury, and Illness Report, along with data from MSHA Form 7000-2, Quarterly Mine Employment and Coal Production Report, to compute incidence and severity rates for various injury types. These rates are used to analyze trends and to assess the degree of success of the health and safety efforts of MSHA and the mining industry.

Accident, injury, and illness data, when correlated with employment and production data, provide information that allows MSHA to improve its safety and health enforcement programs, focus its education and training efforts, and establish priorities for its technical assistance activities in mine safety and health. Maintaining a current database allows MSHA to identify and direct increased attention to those mines, industry segments, and geographical areas where hazardous trends are developing. This could not be done effectively using historical data. The information collected under 30 CFR part 50 is the most comprehensive and reliable occupational data available concerning the mining industry.

Section 103(d) of the Federal Mine Safety and Health Act of 1977 (Mine Act), as amended, requires that each accident be investigated by the mine operator to determine the cause and means of preventing a recurrence. Records of accidents and investigations must be kept and made available to the Secretary or her authorized representative and the appropriate State agency. Section 103(h) requires operators to keep any records and make any reports that are reasonably necessary for MSHA to perform its duties under the Mine Act. Section 103(j) requires mine operators to notify MSHA of the occurrence of an accident and to take appropriate measures to preserve any evidence that would assist in the investigation into the cause of the accident.

II. Desired Focus of Comments

MSHA is particularly interested in comments that:

• Evaluate whether the collection of information is necessary for the proper performance of the functions of the Agency, including whether the information has practical utility;

• Evaluate the accuracy of the Agency's estimate of the burden of the collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses.

A copy of the information collection request can be obtained by contacting the person listed in the FOR FURTHER INFORMATION CONTACT section of this notice, or viewed on the Internet by selecting “Rules & Regs”, and then selecting “FedReg.Docs”. On the next screen, select “Paperwork Reduction Act Supporting Statement” to view documents supporting the Federal Register notice.

III. Current Actions

This notice contains the request for an extension of the existing collection of information in the following:

• 30 CFR 50.10 Immediate Notification;

• 30 CFR 50.11 Investigation;

• 30 CFR 50.20 Preparation and submission of MSHA Report Form 7000-1—Mine Accident, Injury, and Illness Report; and

• 30 CFR 50.30, Preparation and submission of MSHA Form 7000-2—Quarterly Employment and Coal Production Report.

MSHA publishes its data tabulations and analyses in quarterly news releases and other reports, in five Informational Reports, and in an Annual Report to Congress. MSHA publishes the expiration dates for OMB approval on all forms. There are no certification exceptions identified with this information collection and the collection of this information does not employ statistical methods.

Type of Review: Extension.

Agency: Mine Safety and Health Administration.

OMB Number: 1219-0007.

Frequency: As needed for Form 7000-1; Quarterly for Form 7000-2.

Affected Public: Business or other for-profit.

Cost to Federal Government: $704,731.

Total Burden Respondents: 27,193 (14,631 mine operators + 12,562 independent contractors).

Total Number of Responses: 144,450.

Total Burden Hours: 210,976 hours.

Total Hour Burden Cost: $15,336,514.

Comments submitted in response to this notice will be summarized and included in the request for Office of Management and Budget approval of the information collection request; they will also become a matter of public record.

Dated: December 29, 2010.
Patricia W. Silvey,
Director, Office of Standards, Regulations, and Variances.

[FR Doc. 2010-33260 Filed 1-4-11; 8:45 am]

BILLING CODE 4510-43-P